DEPARTMENT OF TRANSPORTATION

Surface Transportation Board

[Docket No. FD 35665]

Aiken Railway Company, LLC—Lease and Operation Exemption—Lines of Norfolk Southern Railway Company in Aiken County, SC

On October 31, 2012, Aiken Railway Company, LLC (AIKR), a noncarrier, filed a verified notice of exemption under 49 CFR 1150.31 to lease from Norfolk Southern Railway Company (NSR), and to operate, two segments of rail line referred to as the SA Line and the AB Line. The SA Line extends 12.45 miles between milepost SA 63.45 at or near Warrenville, SC, and milepost SA 51.0 at or near Oakwood, SC. The AB Line extends 6.45 miles between milepost AB 23.75 at or near Aiken, SC, and milepost AB 17.3 at or near Seclay, SC. This transaction is related to a notice of exemption filed on November 5, 2012, in which Western Carolina Railway Service Corporation (WCRS), and Steven C. Hawkins and Cheryl R. Hawkins (collectively, the Hawkins) seek Board approval to continue in control of AIKR upon AIKR's becoming a Class III rail carrier. W. Carolina Ry. Serv. Corp.—Continuance in Control Exemption—Aiken Ry., Docket No. FD 35691.

As a result of this transaction, and pursuant to a lease agreement between AIKR and NSR, AIKR will provide freight rail service over the lines. As consideration for the lease, AIKR has agreed to bring the lines (except for a sub-segment between mileposts SA 51.0 and SA 55.0) up to the Federal Railroad Administration's Class 1 standards. AIKR states that the lines connect only with NSR and that it will interchange with NSR in Aiken, SC. AIKR states that the transaction does not, however, impose any interchange commitments.

The effective date of this exemption is November 30, 2012. AIKR states that it expects to commence operations on December 1, 2012, more than 30 days after the notice of exemption was filed. The effective date of the related continuance in control exemption in Docket No. FD 35691, however, is December 5, 2012. WCRS and the Hawkins are reminded that they are not authorized to control AIKR until the continuance in control exemption becomes effective on December 5, 2012.

AIKR certifies that its projected annual revenues as a result of this transaction will not exceed those that would qualify it as a Class III rail carrier. AIKR further certifies that its projected annual revenues as a result of this transaction will not exceed $5 million.

If the verified notice contains false or misleading information, the exemption is void ab initio. Petitions to revoke the exemption under 49 U.S.C. 10502(d) may be filed at any time. The filing of a petition to revoke will not automatically stay the effectiveness of the exemption. Petitions to stay must be filed by November 23, 2012 (at least seven days prior to the date the exemption becomes effective).

An original and ten copies of all pleadings, referring to Docket No. FD 35665 must be filed with the Surface Transportation Board, 395 E Street SW., Washington, DC 20423-0001. In addition, a copy of each pleading must be served on J. Marshall Lawson, 4840 Forest Drive, Suite 6B, PMB-295, Columbia, SC 29206-4810.

Board decisions and notices are available on our Web site at www.stb.dot.gov.

Decided: November 13, 2012.
By the Board, Rachel D. Campbell, Director, Office of Proceedings.
Jeffrey Herzig,
Clearance Clerk.

[FR Doc. 2012-27941 Filed 11-15-12; 8:45 am]

BILLING CODE 4915-01-P